DEPARTMENT OF DEFENSE

Office of the Secretary

[Docket ID: DoD-2015-OS-0031]

Privacy Act of 1974; System of Records

AGENCY: Office of the Secretary of Defense, DoD.

ACTION: Notice to alter a System of Records.

SUMMARY: The Office of the Secretary of Defense proposes to alter a system of records, DMDC 12 DoD, entitled “Joint Personnel Adjudication System (JPAS)” in its inventory of record systems subject to the Privacy Act of 1974, as amended. This system is a DoD enterprise automated system for personnel security, providing a common, comprehensive medium to record, document, and identify personnel security actions within the Department including submitting adverse information, verification of clearance status (to include grants of interim clearances), requesting investigations, and supporting Continuous Evaluation activities.

DATES: Comments will be accepted on or before May 11, 2015. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in the FOR FURTHER INFORMATION CONTACT section or at the Defense Privacy and Civil Liberties Division Web site at http://dpcld.defense.gov/.

The proposed system report, as required by U.S.C. 552a(r) of the Privacy Act of 1974, as amended, was submitted on April 1, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 6, 2015.
Aaron Siegel,
Alternate OSD Federal Register Liaison Officer, Department of Defense.

DMDC 12 DoD

Joint Personnel Adjudication System (JPAS), (May 3, 2011, 76 FR 24863).

Changes:

* * * * *

Categories of individuals covered by the system:

Delete entry and replace with “All Armed Forces personnel; DoD and U.S. Coast Guard civilian, contractor employees, and applicants; other federal personnel with authorized access to JPAS or for reciprocity purposes; “affiliated” personnel (e.g., Non-Appropriated Fund employees, Red Cross volunteers and staff, USO personnel, and congressional staff members); industry personnel requiring JPAS access for personnel security purposes; and foreign nationals requiring fitness determination, Homeland Security Presidential Directive 12 (HSPD-12) access, access to National Security Information (NSI), Sensitive Compartmented Information and/or assignment to a sensitive position.”

Categories of records in the system:

Delete entry and replace with “Name (current, former and alternate names); Social Security Number (SSN); DoD Identification Number (DoD ID Number); date of birth; place of birth; country of citizenship; type of DoD affiliation; employing activity; current employment status; position sensitivity; personnel security investigative basis; status of current adjudicative action; security clearance eligibility status and access status; whether eligibility determination was based on a condition, deviation from prescribed investigative standards, or waiver of adjudication guidelines; reports of security-related incidents, to include issue files and information identified through continuous evaluation which may require additional adjudication; foreign travel and contacts; self-reported information; eligibility recommendations or decisions made by an appellate authority; non-disclosure execution dates; indoctrination date(s); level(s) of access granted; debriefing date(s) and reasons for debriefing. Entries documenting the outcomes of investigations and adjudications conducted by Federal investigative organizations (e.g., U.S. Office of Personnel Management (OPM), Federal Bureau of Investigation (FBI), National Aeronautics and Space Administration (NASA), etc.) or by DoD agencies for continuous evaluation and locator references to such investigations. Entries documenting fitness determinations, HSPD-12 access, and continuous evaluation adverse information flags of the subject.”

Authority for maintenance of the system:

Delete entry and replace with “5 U.S.C. 9101, Access to Criminal History Information for National Security and Other Purposes; 10 U.S.C. 137, Under Secretary of Defense for Intelligence; DoD Directive 1145.02E, United States Military Entrance Processing Command (USMEPCOM); DoD 5200.2R, DoD Personnel Security Program (PSP); DoD 5105.21, Sensitive Compartment Information Administrative Security Manual; DoD Instruction (DoDI) 1304.26, Qualification Standards for Enlistment, Appointment and Induction; DoDI 5200.02, DoD Personnel Security Program (PSP); DoDD 5220.6, Defense Industrial Personnel Security Clearance Review Program; DoDI 5220.22, National Industrial Security Program (NISP); Homeland Security Presidential Directive (HSPD) 12, Policy for Common Identification Standard for Federal Employees and Contractors; and E.O. 9397 (SSN), as amended.”

Purpose(s):

Delete entry and replace with “JPAS is a DoD enterprise automated system for personnel security, providing a common, comprehensive medium to record, document, and identify personnel security actions within the Department including submitting adverse information, verification of clearance status (to include grants of interim clearances), requesting investigations, and supporting Continuous Evaluation activities.

JPAS consists of two applications, the Joint Adjudication Management System (JAMS) and the Joint Clearance and Access Verification System (JCAVS). JAMS, primarily used by the DoD Adjudicative Community, has the primary purpose of recording eligibility determinations. JCAVS, primarily used by DoD Security Managers and Industry Facility Security Officers, has the primary purpose of verifying eligibility, record access determinations, submitting incidents for subsequent adjudication, and visit requests from the field (worldwide).

These records may also be used as a management tool for statistical analyses, tracking, reporting, evaluating program effectiveness and conducting research.”

Routine uses of records maintained in the system, including categories of users and the purposes of such uses:

Delete entry and replace with “In addition to disclosures generally permitted under 5 U.S.C. 552a(b) of the Privacy Act of 1974, as amended, the records contained herein may specifically be disclosed outside the DoD as follows:

To the White House to obtain approval of the President of the United States regarding certain military personnel office actions as provided for in DoD Instruction 1320.4, Military Officer Actions Requiring Approval of the Secretary of Defense or the President, or Confirmation by the Senate.

To the U.S. Citizenship and Immigration Services for use in alien admission and naturalization inquiries.

To a Federal agency and its employees who are eligible to have a security clearance and/or have access to classified national security information in order to ensure that the agency is informed about information that relates to and/or impacts its employees' eligibility to have a security clearance and/or access to classified national security information.

To a Federal agency with contractor personnel who are eligible to have a security clearance and/or have access to classified national security information in order to ensure that the agency is informed about information that relates to and/or may impact the contractor's eligibility to have a security clearance and/or access to classified national security information.

To a contractor with employees who are eligible to have a security clearance and/or have access to classified national security information in order to ensure that the employer is informed about information that relates to and/or may impact its employees eligibility to have a security clearance and/or access to classified national security information.

Law Enforcement Routine Use:

If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use:

A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use:

A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use:

Disclosure from a system of records maintained by a DoD Component may be made to a congressional office from the record of an individual in response to an inquiry from the congressional office made at the request of that individual.

Disclosure to the Office of Personnel Management Routine Use:

A record from a system of records subject to the Privacy Act and maintained by a DoD Component may be disclosed to the Office of Personnel Management (OPM) concerning information on pay and leave, benefits, retirement deduction, and any other information necessary for the OPM to carry out its legally authorized government-wide personnel management functions and studies.

Counterintelligence Purpose Routine Use:

A record from a system of records maintained by a DoD Component may be disclosed as a routine use outside the DoD or the U.S. Government for the purpose of counterintelligence activities authorized by U.S. Law or Executive Order or for the purpose of enforcing laws which protect the national security of the United States.

The DoD Blanket Routine Uses set forth at the beginning of the Office of the Secretary, DoD/Joint Staff compilation of systems of records notices may apply to this system. The complete list of DoD blanket routine uses can be found at: http://dpcld.defense.gov/Privacy/SORNsIndex/BlanketRoutineUses.aspx”

* * * * *

Retrievability:

Delete entry and replace with “Information is generally retrieved by SSN. However, access to certain functions may require a combination of SSN, DoD ID number, name, date of birth, and/or state and/or country of birth.”

Safeguards:

Delete entry and replace with “Access to personal information is restricted to those who require the records in the performance of their official duties. Access to personal information is further restricted by the use of Personal Identity Verification (PIV) cards. Physical entry is restricted by the use of locks, guards, and administrative procedures. All individuals granted access to this system of records are to have taken annual Information Assurance and Privacy Act training; and all have been through the vetting process.”

Retention and disposal:

Delete entry and replace with “Records are destroyed no later than 15 continuous years after termination of affiliation with the DoD.”

System manager(s) and address:

Delete entry and replace with “Director, Defense Manpower Data Center, 4800 Mark Center, Alexandria, VA 22350-4000.

Deputy Director, Defense Manpower Data Center, DoD Center Monterey Bay, 400 Gigling Road, Seaside, CA 93955-6771.”

* * * * *

Record access procedures:

Delete entry and replace with “Individuals seeking information about themselves contained in this system should address written inquiries to the Defense Manpower Data Center (DMDC) Boyers, ATTN: Privacy Act Office, P.O. Box 168, Boyers, PA 16020-0168.

Individuals should provide their full name (and any alias and/or alternate names used), SSN, and date and place of birth.

In addition, the requester must provide a notarized statement or an unsworn declaration made in accordance with 28 U.S.C. 1746, in the following format:

If executed outside the United States: ‘I declare (or certify, verify, or state) under penalty of perjury under the laws of the United States of America that the foregoing is true and correct. Executed on (date). (Signature).'

If executed within the United States, its territories, possessions, or commonwealths: ‘I declare (or certify, verify, or state) under penalty of perjury that the foregoing is true and correct. Executed on (date). (Signature).'

Attorneys or other persons acting on behalf of an individual must provide written authorization from that individual for their representative to act on their behalf.”

* * * * *

Record source categories:

Delete entry and replace with “Information contained in this system is obtained from the individual; DoD personnel systems; Consolidated Adjudication Tracking System (CATS); Continuous Evaluation Records; DoD and federal adjudicative facilities/organizations; DoD and Non-DoD agencies; and security managers, security officers, or other officials requesting and/or sponsoring the security eligibility or suitability determination or visitation of facility. Additional information may be obtained from other sources such as personnel security investigations, security representatives, subject's personal financial records, military service records, medical records, and unsolicited sources.”

* * * * *

[FR Doc. 2015-08220 Filed 4-9-15; 8:45 am]

BILLING CODE 5001-06-P